DEPARTMENT OF ENERGY

Federal Energy Regulatory Commission

Combined Notice of Filings # 1

January 29, 2010.

Take notice that the Commission received the following electric corporate filings:

Docket Numbers: EC10-42-000; EC09-30-001.

Applicants: Milford Power Company, LLC, CPV Milford, LLC.

Description: Application for Order Under Section 203 of the Federal Power Act and Request for Blanket Authorization for Certain Future Transactions, Request for Waivers and Expedited Action of Milford Power Company, LLC and CPV Milford, LLC.

Filed Date: 01/29/2010.

Accession Number: 20100129-5048.

Comment Date: 5 p.m. Eastern Time on Friday, February 19, 2010.

Take notice that the Commission received the following electric rate filings:

Docket Numbers: ER10-147-003.

Applicants: Great River Energy.

Description: Great River Energy submits the compliance filing on Revisions to Formula Rate to provide for incentive rates.

Filed Date: 01/27/2010.

Accession Number: 20100127-0212.

Comment Date: 5 p.m. Eastern Time on Wednesday, February 17, 2010.

Docket Numbers: ER10-168-001.

Applicants: PJM Interconnection, L.L.C.

Description: PJM Interconnection, LLC submits revised amended and restated operating agreement.

Filed Date: 01/29/2010.

Accession Number: 20100129-0210.

Comment Date: 5 p.m. Eastern Time on Friday, February 19, 2010.

Docket Numbers: ER10-308-001.

Applicants: Kleen Energy Systems, LLC.

Description: Kleen Energy Files Cat. 1-Cat. 2 Letter Per Staff.

Filed Date: 01/26/2010.

Accession Number: 20100126-5039.

Comment Date: 5 p.m. Eastern Time on Tuesday, February 16, 2010.

Docket Numbers: ER10-641-000.

Applicants: Northeast Utilities Service Company.

Description: Connecticut Light and Power Company et al submits a Notice of Termination of the Localized Costs Responsibility Agreement with Dynegy Power Marketing, Inc et al.

Filed Date: 01/26/2010.

Accession Number: 20100126-0212.

Comment Date: 5 p.m. Eastern Time on Tuesday, February 16, 2010.

Docket Numbers: ER10-663-000.

Applicants: DTE Energy Supply, Inc.

Description: DTE Energy Supply, Inc submits a Notice of Succession to inform the Commission of the change in name.

Filed Date: 01/28/2010.

Accession Number: 20100128-0209.

Comment Date: 5 p.m. Eastern Time on Thursday, February 18, 2010.

Docket Numbers: ER10-664-000.

Applicants: Southwest Power Pool, Inc.

Description: Southwest Power Pool, Inc submits a revised pages to its Open Access Transmission Tariff to implement rate changes for Southwestern Public Service.

Filed Date: 01/28/2010.

Accession Number: 20100128-0210.

Comment Date: 5 p.m. Eastern Time on Thursday, February 18, 2010.

Docket Numbers: ER10-665-000.

Applicants: Southern California Edison Company.

Description: Southern California Edison submits Twelfth Revised Sheet No. 67 et al to FERC Electric Tariff, Second Revised Volume No. 6.

Filed Date: 01/28/2010.

Accession Number: 20100128-0211.

Comment Date: 5 p.m. Eastern Time on Thursday, February 18, 2010.

Docket Numbers: ER10-666-000.

Applicants: PJM Interconnection, L.L.C.

Description: PJM Interconnection, LLC submits executed interim interconnection service agreements.

Filed Date: 01/28/2010.

Accession Number: 20100128-0212.

Comment Date: 5 p.m. Eastern Time on Thursday, February 18, 2010.

Docket Numbers: ER10-667-000.

Applicants: Oklahoma Gas and Electric Company.

Description: Oklahoma Gas and Electric Company submits an Amended and Restated Network Integration Transmission Service Agreement, designated as First Revised Service Agreement 43 effective.

Filed Date: 01/28/2010.

Accession Number: 20100128-0223.

Comment Date: 5 p.m. Eastern Time on Thursday, February 18, 2010.

Docket Numbers: ER10-668-000.

Applicants: Medicine Bow Power Partners, LLC.

Description: Medicine Bow Power Partners, LLC submits Notice of Cancellation of its FERC Electric Tariff, Original Volume 1.

Filed Date: 01/28/2010.

Accession Number: 20100128-0224.

Comment Date: 5 p.m. Eastern Time on Thursday, February 18, 2010.

Docket Numbers: ER10-673-000.

Applicants: Consolidated Edison Company of New York.

Description: Consolidated Edison Company of New York, Inc submits amendment to Delivery Service Rate Schedule No 96.

Filed Date: 01/29/2010.

Accession Number: 20100129-0203.

Comment Date: 5 p.m. Eastern Time on Friday, February 19, 2010.

Docket Numbers: ER10-674-000.

Applicants: Westar Energy, Inc.

Description: Westar Energy submits an amendment to the Cost-Based Rate Agreement for full requirements electric service with Kansas Electric Cooperative, Inc.

Filed Date: 01/29/2010.

Accession Number: 20100129-0205.

Comment Date: 5 p.m. Eastern Time on Friday, February 19, 2010.

Docket Numbers: ER10-675-000.

Applicants: Southern California Edison Company.

Description: Southern California Edison Company submits revision to its Transmission Owner Tariff, FERC Electric Tariff, Second Revised Volume 6 to update the Transmission Access Charge Balancing Account Adjustment, effective 4/1/10.

Filed Date: 01/29/2010.

Accession Number: 20100129-0211.

Comment Date: 5 p.m. Eastern Time on Friday, February 19, 2010.

Docket Numbers: ER10-676-000.

Applicants: PJM Interconnection, L.L.C.

Description: PJM Interconnection, LLC submits revised interconnection service agreement among PJM, Fairless Energy, LLC, et al.

Filed Date: 01/29/2010.

Accession Number: 20100129-0204.

Comment Date: 5 p.m. Eastern Time on Friday, February 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-2621 Filed 2-5-10; 8:45 am]

BILLING CODE 6717-01-P